DEPARTMENT OF DEFENSE

Office of the Secretary

[Transmittal Nos. 14-23]

36(b)(1) Arms Sales Notification

AGENCY: Defense Security Cooperation Agency Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 14-23 with attached transmittal, policy justification, and Sensitivity of Technology.

Dated: July 28, 2014.
Aaron Siegel,
Alternate OSD Federal Register Liaison Officer, Department of Defense.

BILLING CODE 5001-06-P

BILLING CODE 5001-06-C

Transmittal No. 14-23

Notice of Proposed Issuance of Letter of Offer Pursuant to Section 36(b)(1) of the Arms Export Control Act, as Amended

(i) Prospective Purchaser: Government of Tunisia

(ii) Total Estimated Value:

Major Defense Equipment * | $440 million.
Other | $260 million.
Total | $700 million.

*As defined in Section 47(6) of the Arms Export Control Act.

(iii) Description and Quantity or Quantities of Articles or Services under Consideration for Purchase: 12 UH-60M Black Hawk Helicopters in standard USG configuration with designated unique equipment and Government Furnished Equipment (GFE), 30 T700-GE-701D Engines (24 installed and 6 spares), 26 Embedded Global Positioning Systems/Inertial Navigation Systems, 24 M134 7.62mm Machine Guns, integration of Precision Guided Rocket System capability to permit launch of laser-guided variants of 2.75 rockets, 9,100 2.75 Hydra Rockets, 100 AGM-114R Hellfire Missiles, 20 M299 Hellfire Missile Pods, 24 M261 Hydra-70 Rocket Pods, 24 GAU-19 .50 cal Machine Guns, 15 Wescam MX-15Di or Brite Star II Electro-Optical Infrared Laser Designators, 6 Aviation Mission Planning Systems, 1 Aviation Ground Power Unit, 30 AN/AVS-9 Night Vision Goggles, 15 AAR-57 Common Missile Warning Systems, 15 AN/APR-39A(V)4s Radar Warning Receivers, 15 AN/AVR-2B(V)1s Laser Warning Systems, 30 MXF-4027 Very High Frequency/Ultra High Frequency radios, 15 AN/APX-117 IFF Transponders, 15 Very High Frequency/Digitally Selective Calling radios, 15 ARN-147 VOR/ILS, 15 AN/ARN-153 Tactical Air Navigation Systems, and 15 AN/ARC-220 radios. Also included are aircraft warranty, ammunition, air worthiness support, facility construction, spare and repair parts, support equipment, communication equipment, publications and technical documentation, personnel training and training equipment, site surveys, tool and test equipment, U.S. Government and contractor technical and logistics support services, and other related element of program and logistics support.

(iv) Military Department: Army (USS)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: 23 July 2014.

Policy Justification

Tunisia—UH-60M Black Hawk Helicopters

The Government of Tunisia has requested a possible sale of 12 UH-60M Black Hawk Helicopters in standard USG configuration with designated unique equipment and Government Furnished Equipment (GFE), 30 T700-GE-701D Engines (24 installed and 6 spares), 26 Embedded Global Positioning Systems/Inertial Navigation Systems, 24 M134 7.62mm Machine Guns, integration of Precision Guided Rocket System capability to permit launch of laser-guided variants of 2.75 rockets, 9,100 2.75 Hydra Rockets, 100 AGM-114R Hellfire Missiles, 20 M299 Hellfire Missile Pods, 24 M261 Hydra-70 Rocket Pods, 24 GAU-19 .50 cal Machine Guns, 15 Wescam MX-15Di or Brite Star II Electro-Optical Infrared Laser Designators, 6 Aviation Mission Planning Systems, 1 Aviation Ground Power Unit, 30 AN/AVS-9 Night Vision Goggles, 15 AAR-57 Common Missile Warning Systems, 15 AN/APR-39A(V)4s Radar Warning Receivers, 15 AN/AVR-2B(V)1s Laser Warning Systems, 30 MXF-4027 Very High Frequency/Ultra High Frequency radios, 15 AN/APX-117 IFF Transponders, 15 Very High Frequency/Digitally Selective Calling radios, 15 ARN-147 VOR/ILS, 15 AN/ARN-153 Tactical Air Navigation Systems, and 15 AN/ARC-220 radios. Also included are aircraft warranty, ammunition, air worthiness support, facility construction, spare and repair parts, support equipment, communication equipment, publications and technical documentation, personnel training and training equipment, site surveys, tool and test equipment, U.S. Government and contractor technical and logistics support services, and other related element of program and logistics support. The estimated cost is $700 million.

This proposed sale will contribute to the foreign policy and national security of the United States by helping to improve the security of a friendly country in North Africa.

The proposed sale will improve Tunisia's capability to deter regional threats and strengthen its homeland defense, as well as support counter-terrorism operations. The sale of these UH-60 helicopters will bolster Tunisia's ability to provide border patrol, rapid reaction, and field expedient medical evacuation for its air and ground forces in counter-terrorism and border security operations.

The proposed sale of this equipment and support will not alter the basic military balance in the region.

The principal contractors will be Sikorsky Aircraft Company in Stratford, Connecticut; and General Electric Aircraft Company in Lynn, Massachusetts. There are no known offset agreements in connection with this potential sale.

Implementation of this proposed sale may require the assignment of an additional three U.S. Government and five contractor representatives in Tunisia to support the delivery and training for approximately two-five years.

There will be no adverse impact on U.S. defense readiness as a result of this proposed sale.

Transmittal No. 14-23

Notice of Proposed Issuance of Letter of Offer Pursuant to Section 36(b)(1) of the Arms Export Control Act

Annex—Item No. vii

(vii) Sensitivity of Technology

1. The UH-60M aircraft is a medium lift aircraft that includes two T-701D Engines and the integrated flight and management system, which provides aircraft system, flight, mission, and communication management systems. The cockpit includes five Multifunction Displays (MFDs), two General Purpose Processor Units (GPPUs), two Control Display Units (CDUs) and two Data Concentrator Units (DCUs). The Navigation System will have Embedded GPS/INS (EGIs), and two Digital Advanced Flight Control Systems (DAFCS).

2. The CN-1689-(H-764GU) Embedded GPS/INS (EGI) unit contains sensitive GPS technology. This GPS unit will have a Standard Positioning System configuration.

3. The AN/AVS-6 Night Vision Goggles are sensitive.

4. The AN/AAR-57 Common Missile Warning Systems (CMWS) detects energy emitted by threat missile in-flight, evaluates potential false alarm emitters in the environment, declares validity of threat and selects appropriate counter-measures. The CMWS consists of an Electronic Control Unit (ECU), Electro-Optic Missile Sensors (EOMSs), and Sequencer and Improved Countermeasures Dispenser (ICMD). The ECU hardware is classified Confidential; and releasable technical manuals for operation and maintenance are classified Secret.

5. The AN/APR-39A(V)4 Radar Warning Receivers provide warning of a radar directed air defense threat and allows appropriate countermeasures. This is the 1553 databus compatible configuration. The hardware is classified Confidential when programmed with U.S. threat data; releasable technical manuals for operation and maintenance are classified Confidential; releasable technical data (technical performance) is classified Secret.

6. The AN/AVR-2B(V)1 Laser Warning Systems are classified. The AN/AVR-2B Laser Detecting Set is a passive laser warning system that receives, processes and displays threat information resulting from aircraft illumination by lasers on the multi-functional display. The hardware is classified Confidential; releasable technical manuals for operation and maintenance are classified Secret.

7. The Hellfire missile is an air-to-surface missile with a multi-mission, multi-target, precision strike capability. The Hellfire can be launched from multiple air platforms and is the primary precision weapon for the United States.

8. The highest level for release of the AGM-114R Hellfire II missile is Secret, based upon the software. The highest level of classified information that could be disclosed by a proposed sale or by testing of the end item is Secret; the highest level that must be disclosed for production, maintenance, or training is Confidential. Reverse engineering could reveal Confidential information. Vulnerability data, countermeasures, vulnerability/susceptibility analyses, and threat definitions are classified up to Secret.

9. If a technologically advanced adversary were to obtain knowledge of the specific hardware and software elements, the information could be used to develop countermeasures or equivalent systems which might reduce weapon system effectiveness or be used in the development of a system with similar or advanced capabilities.

10. A determination has been made that the recipient country can provide the same degree of protection for the sensitive technology being released as the U.S. Government. This sale is necessary in furtherance of the U.S. foreign policy and national security objectives outlined in the Policy Justification.

11. All defense articles and services listed in this transmittal have been authorized for release and export to the Government of Tunisia.

[FR Doc. 2014-18022 Filed 7-30-14; 8:45 am]

BILLING CODE 5001-06-P